ENVIRONMENTAL PROTECTION AGENCY

[ER-FRL-8597-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20090221, ERP No. D-AFS-F65076-WI, Northwest Sands Restoration Project, Restoring the Pine Barren Ecosystem, Implementation, Washburn District Ranger, Chequamegon-Nicolet National Forest, Bayfield County, WI.

Summary: EPA does not object to the proposed project. Rating LO.

EIS No. 20090222, ERP No. D-AFS-G65109-NM, Rinconada Communication Site, Designation of Site to Serve Present and Future High Power Communication Needs and to Permit the Development of a Radio Transmission Facility within Site, Mt. Taylor Ranger District, Cibola National Forest, Cibola County, NM.

Summary: EPA does not object to the proposed action. Rating LO.

EIS No. 20090226, ERP No. D-FHW-K40272-CA, 6th Street Viaduct Seismic Improvement Project, Retrofitting or Demolition and Replacement of the Existing Viaduct over the Los Angeles river between Mateo and Mill Streets, Los Angeles County, CA.

Summary: EPA expressed environmental concerns about impacts to aquatic resources, air quality/construction mitigation, and environmental justice issues. EPA also requested additional cumulative impacts analysis. Rating EC2.

Final EISs

EIS No. 20090251, ERP No. F-NPS-C61012-NY, Fort Stanwix National Monument General Management Plan, Implementation, Funding, City of Rome, Oneida County, NY.

Summary: No formal comment letter was sent to the preparing agency.

EIS No. 20090263, ERP No. F-NSF-K99036-HI, Advanced Technology Solar Telescope Project, Issuing Special Use Permit to Operate Commercial Vehicles on Haeakala National Park Road during the Construction of Site at the University of Hawai'i Institute for Astronomy, Haleakala High Altitude Observatory (HO) Site, Island of Maui, HI.

Summary: No formal comment letter was sent to the preparing agency.

EIS No. 20090264, ERP No. F-FHW-F40447-OH, Cleveland Innerbelt Project, Proposing Major Rehabilitation and Reconstruction between I-71 and I-90, Cleveland Central Business District, Funding, City of Cleveland, Cuyahoga County, OH.

Summary: EPA continues to have environmental concerns about stormwater impacts and requested the pretreatment of all stormwater.

Dated: September 1, 2009.
Robert W. Hargrove,
Director, NEPA Compliance Division, Office of Federal Activities.

[FR Doc. E9-21386 Filed 9-3-09; 8:45 am]

BILLING CODE 6560-50-P